DEPARTMENT OF EDUCATION

34 CFR Chapter II

[CFDA Number: 84.282N]

Final Priorities, Requirements, and Definitions—Charter Schools Program (CSP) Grants for National Leadership Activities

AGENCY: Office of Innovation and Improvement, Department of Education.

ACTION: Final priorities, requirements, and definitions.

SUMMARY: The Assistant Deputy Secretary for Innovation and Improvement announces final priorities, requirements, and definitions under the CSP Grants for National Leadership Activities. The Assistant Deputy Secretary may use one or more of these priorities, requirements, and definitions for competitions in fiscal year (FY) 2015 and later years.

DATES: Effective Date: These final priorities, requirements, and definitions are effective August 13, 2014.

FOR FURTHER INFORMATION CONTACT: Brian Martin, U.S. Department of Education, 400 Maryland Avenue SW., Room 4W224, Washington, DC 20202-5970. Telephone: (202) 205-9085. Or by email: brian.martin@ed.gov.

If you use a telecommunications device for the deaf (TDD) or a text telephone (TTY), call the Federal Relay Service (FRS), toll free, at 1-800-877-8339.

SUPPLEMENTARY INFORMATION:

Purpose of Program

The purpose of the CSP is to increase national understanding of the charter school model by—

(1) Providing financial assistance for the planning, program design, and initial implementation of charter schools;

(2) Evaluating the effects of charter schools, including the effects on students, student academic achievement, staff, and parents;

(3) Expanding the number of high-quality charter schools (as defined in the notice) available to students across the Nation; and

(4) Encouraging the States to provide support to charter schools for facilities financing in an amount that is more commensurate with the amount the States have typically provided for non-chartered public schools.

The purpose of the CSP Grants for National Leadership Activities (CFDA 84.282N) is to support efforts by eligible entities to improve the quality of charter schools by providing technical assistance and other types of support on issues of national significance and scope.

Program Authority

The CSP is authorized under 20 U.S.C. 7221-7221i; CSP Grants for National Leadership Activities are authorized under 20 U.S.C. 7221d.

The U.S. Department of Education (Department) published a notice of proposed priorities, requirements, and definitions (NPP) for the CSP Grants for National Leadership Activities in the Federal Register on December 3, 2013 (78 FR 72600). The NPP contained background information and our reasons for proposing the particular priorities, requirements, and definitions.

The Analysis of Comments and Changes section in this notice describes the differences between the priorities, requirements, and definitions we proposed in the NPP and these final priorities, requirements, and definitions. The two most significant changes are as follows:

We revised the language in Priority 2—Improving Accountability to clarify how applicants can describe how their projects will improve authorized public chartering agencies' capacity to approve new charter schools. We made this change because the proposed priority referred to authorized public chartering agencies' capacity to approve only high-quality charter schools, which, as defined in this notice, requires that the school show evidence of strong academic results for the past three years (or over the life of the school, if the school has been open for fewer than three years). While authorized public chartering agencies, or authorizers, should approve only high-quality charter petitions, it is not feasible for authorizers to approve only high-quality charter schools as defined in this notice, as the definition would not allow an authorizer to approve a new charter school with no academic achievement data.

We revised Priority 3—Students with Disabilities and Priority 4—English Learners to allow applicants to address the priorities by promoting collaborative activities between charter schools, non-chartered public schools, and as applicable, key special education stakeholders or key English learner stakeholders, which are designed to improve academic achievement and attainment outcomes for these student subgroups.

Public Comment: In response to our invitation in the NPP, 38 parties submitted comments on the proposed priorities, requirements, and definitions.

Generally, we do not address technical and other minor changes. In addition, we do not address comments that raise concerns not directly related to the proposed priorities, requirements, or definitions.

Analysis of Comments and Changes: An analysis of the comments and any changes in the proposed priorities, requirements, and definitions since publication of the NPP follows.

Priorities

Comment: Multiple commenters made suggestions regarding how each of the priorities should be designated (i.e., absolute, competitive preference, or invitational). Specifically, one commenter suggested that we use Priority 1—Improving Efficiency through Economies of Scale as an invitational priority because, according to the commenter, the objectives of the priority are already in place through cooperative agreements with school districts and private organizations. Another commenter suggested that due to the overall growth of English learners, Priority 4—English Learners should be a competitive preference priority. A third commenter suggested that Priority 5—Personalized Technology-Enabled Learning should be an absolute priority, as positive impact can be seen across all student subgroups.

Discussion: This notice is designed only to establish the priorities that we may choose to use in the CSP Grants for National Leadership Activities competitions in 2015 and future years. We do not designate whether a priority will be absolute, competitive, or invitational in this notice; we retain the flexibility to determine how best to designate the priorities to ensure that funded projects address the most pressing areas of need for competitions in 2015 or in future years. When inviting applications for a competition using one or more of these priorities, we will designate the type of each priority through a notice in the Federal Register.

Changes: None.

Comment: One commenter suggested that each of the priorities should place more of an emphasis on communication and dissemination activities in order to ensure that each project's effectiveness can be reviewed and evaluated by other organizations.

Discussion: We appreciate the suggestion and agree that the evaluation of a project and the communication and dissemination of information about a project's effectiveness are important. Because entities receiving the CSP Grants for National Leadership Activities are required to demonstrate how they will disseminate information at the charter school national level (as defined in this notice), an emphasis on communication and dissemination already exists in this notice. Although we agree project evaluation and dissemination of the results of the evaluation are critical to the CSP Grants for National Leadership Activities, we do not think it is necessary to develop a program-specific requirement regarding evaluation because evaluation design can be addressed through selection criteria. Specifically, the Education Department General Administrative Regulations (EDGAR) include a selection criterion under 34 CFR 75.210(h), Quality of the Project Evaluation, that provides selection factors that encourage applicants to conduct rigorous evaluations of their projects and disseminate relevant findings, which could be incorporated in the selection criteria for a future competition under this program.

Changes: None.

Comment: Two commenters suggested creating a priority designed to increase the development and refinement of charter school leaders. One of the commenters stated that creating a leadership pipeline was important, particularly in the current context of major reforms, including the implementation of Common Core State Standards and new teacher evaluation systems. Both commenters stated that high-quality leaders are of critical national importance as States launch new assessments aligned with college- and career-ready standards.

Discussion: We agree that improving human capital development for the charter school sector is of national significance. However, we do not think a separate priority is needed to address this issue. We note that applicants already have flexibility to incorporate activities involving human capital development as part of projects addressing Priority 1—Improving Efficiency through Economies of Scale.

Changes: None.

Comment: One commenter proposed that the Department add an additional priority, “Promoting Racial and Economic Diversity.” Another commenter proposed we add a similar priority with a focus on diversity and cultural competency. Both commenters noted that the absence of a school diversity priority is especially troubling in light of Department publications that emphasize the importance of, and offer guidance with respect to, issues regarding diversity in public education.

Discussion: We appreciate the commenters' concerns and agree that increasing diversity is important; however, we do not think a separate priority is needed. We note that efforts to increase diversity and cultural competency can be included as allowable activities under the priorities selected for CSP Grants for National Leadership Activities competitions. In addition, the eligible applicants under other CSP competitions, such as those under the CSP State Educational Agency (SEA) competition, whose grantees provide start-up and dissemination grants directly to individual charter schools, are likely better suited to increase diversity in charter schools.

Changes: None.

Comment: One commenter suggested that we create an additional priority that rewards applicants that demonstrate their schools have an expulsion and suspension rate similar to, or lower than, the schools in their surrounding communities or school districts. In addition, the commenter recommended preference be given to grant applicants under this program that have a record of serving students with disabilities and English learners at the same or better rates than their surrounding communities or school districts.

Discussion: Although we appreciate the commenter's concerns, the CSP Grants for National Leadership Activities competition is designed to support projects of national significance for charter schools and is not meant to award points based on the specific characteristics of a given school.

Changes: None.

Comment: One commenter suggested we add a priority addressing the following topics: curriculum, instruction and assessment, data-driven decision-making and analysis, performance management, and professional learning communities.

Discussion: We agree that each of the topics above, especially for the purpose of improving student achievement and teacher effectiveness, is an area of national significance. However, we do not think a separate priority is needed to address these topics as applicants already have flexibility to incorporate these topics as part of projects addressing Priority 1—Improving Efficiency through Economies of Scale.

Changes: None.

Comment: One commenter suggested that many charter school incubators and other investing organizations play a major role in opening and closing charter schools; therefore, the Department should consider assisting such organizations in increasing the quality of their investment processes and the sharing of their best practices under this program.

Discussion: We think investing organizations, such as charter school incubators, play an important role in the charter school sector. We note that applicants already have flexibility to incorporate these concepts as part of projects addressing Priority 1—Improving Efficiency through Economies of Scale.

Changes: None.

Comment: One commenter recommended removing the national scope requirement from Priority 1—Improving Efficiency through Economies of Scale and Priority 2—Improving Accountability. The commenter stated that, for Priority 1, the costs of providing services for English learners and students with disabilities, and educators, in addition to the costs associated with bringing schools in different geographic locations together, far outweigh the costs saved by developing systems of scale. The commenter stated that Priority 2's requirement for projects of national significance and scope would exclude authorized public chartering agencies that limit their charters to only one State.

Discussion: As the CSP Grants for National Leadership Activities competition is dedicated to national activities, it is important that we award grants for projects with a national relevance. We disagree that the cost of implementing a project that is national in its scope outweighs the benefits of developing shared systems of collaboration and information. In Priority 1, the Department encourages organizations affiliated with the charter school sector to implement innovative ideas for achieving economies of scale and aggregating demand in the charter sector. Applicants addressing these priorities must describe how the project will have national significance and scope. However, the priorities do not dictate how an individual applicant should incorporate national significance or scope into its proposed project. We think that if an applicant proposed a project that would occur within only one State, but still demonstrated that the proposed project is of national significance and scope and meets all requirements, the proposed project could be eligible under Priority 1 or Priority 2.

Changes: None.

Comment: Two commenters suggested eliminating Priority 1—Improving Efficiency through Economies of Scale. One commenter felt that the priority does not warrant enough importance for this competition. A second commenter stated that the idea behind the priority was appealing, but that, in practice, transaction costs often outweigh any sustainable economies of scale.

Discussion: We think Priority 1 is important for this competition, as it will encourage more collaboration and improve efficiencies in the charter sector. This priority is intended to address the barriers that charter schools experience when trying to achieve economies of scale, and to promote shared systems for acquiring and developing resources supporting the charter school sector. By promoting projects of national significance that can encourage such shared systems and that support the dissemination and replication of successful practices nationally, including the assembly of communities of practice, we think eligible applicants will address the concerns and transaction costs that can potentially discourage such partnerships and collaborations. In addition, we think that the creation of partnerships and collaborations will foster the development of innovative practices in scaling operational services that may benefit schools. This priority is not only for charter school collaborations that are achieving economies of scale but could also be for organizations bringing charter schools together to develop economies of scale and thus reduce the costs and burden placed on the schools.

Changes: None.

Comment: One commenter noted that Priority 1—Improving Efficiency through Economies of Scale appears to indicate that urban centers may receive preferential treatment over rural areas. The commenter suggested that a competition of truly national scope must include a goal of creating and supporting both a single site and a network of vibrant rural sites, as well as serving large urban areas.

Discussion: The priorities are designed to encourage charter school projects with a national scope and significance. The definition of “charter school national level” used in Priority 1—Improving Efficiency through Economies of Scale and Priority 2—Improving Accountability states that the applicant's dissemination strategy at the charter school national level will consist of working across multiple States across the country, including rural and urban areas. Other priorities only require that projects are of national significance and scope, which does not give preference to urban centers over rural areas.

Changes: None.

Comment: One commenter urged that a series of in-depth cost studies be undertaken to provide a detailed overview of the types of costs associated with Priority 1—Improving Efficiency through Economies of Scale.

Discussion: We appreciate the commenter's concern regarding the types of costs associated with Priority 1—Improving Efficiency through Economies of Scale. Applicants that apply under this priority would need to describe how, and the extent to which, the activities proposed in their applications will achieve efficiencies. These narrative descriptions in the applications, along with the other measures in paragraphs (2) through (5) of Priority 1 will allow peer reviewers to evaluate whether, and to what extent, applicants will achieve efficiencies in the use of time, staff, money, services for special populations, or other resources. Provided an applicant meets all requirements under this priority, the applicant could propose to use these funds to conduct a cost study as part of its proposed project activities.

Changes: None.

Comment: One commenter asked if Priority 1—Improving Efficiency through Economies of Scale supports economies of scale that can arise from teacher-based cooperative arrangements or human capital management solutions. The commenter also asked how the priority would apply to individual schools, or whether a critical evaluation of office products or services, group licensing of licensed services, or a comparison with various sources of teachers and leaders from the cost efficiency perspective would be sufficient to meeting the requirements of the priority. In addition, the commenter asked if Priority 1—Improving Efficiency through Economies of Scale would apply to efficiencies across providers within a sector.

Discussion: Individual charter schools, provided they meet all requirements under this priority, would be eligible to apply as part of an existing or proposed partnership or consortium. An individual charter school would not be eligible to apply under this priority independent of an existing or proposed partnership or consortium. As stated in Priority 1—Improving Efficiency through Economies of Scale, applicants should seek innovative solutions to achieve efficiencies in the use of time, staff, money, services for special populations, or other resources for the purpose of creating, supporting, and sustaining high-quality charter schools (as defined in this notice). If teacher-based cooperative agreements, human capital management solutions, critical evaluations of office products or services, group licensing of licensed services, a comparison with various sources of teachers and leaders from the cost efficiency perspective, or other proposed activities would achieve these efficiencies, an applicant could include these activities to address Priority 1. Similarly, if proposed activities to increase the efficiencies across providers within a sector meet all requirements under this priority, an applicant could include those activities to address Priority 1.

Changes: None.

Comment: One commenter recommended that under Priority 1—Improving Efficiency through Economies of Scale, we consider how applicants can demonstrate that their policies, processes, and communications will achieve efficiencies in assisting special populations, or any activities related to running a high-quality charter school.

Discussion: Priority 1—Improving Efficiency through Economies of Scale is not limited to specific economies of scale, such as assisting special populations, or the specific activities of operating a high-quality charter school (as defined in this notice). We want all applicants to consider, based on their experience, the areas of greatest need for the charter school sector to determine how to address the priority. As such, applicants have the flexibility and discretion to propose projects that achieve efficiencies in any of the areas included in the priority language.

Changes: None.

Comment: One commenter suggested that Priority 1—Improving Efficiency through Economies of Scale include the possibility for organizations that have collaborations already in place to apply for funding.

Discussion: Priority 1—Improving Efficiency through Economies of Scale is intended to encourage the development of consortia of charter schools that will share systems for acquiring goods or services. We edited the second introductory paragraph of Priority 1—Improving Efficiency through Economies of Scale to clarify that existing partnerships or consortia could apply under this priority. We agree that this change is appropriate to further the purpose of the program and Priority 1.

Changes: We changed the second introductory paragraph of Priority 1 to “An applicant addressing this priority must apply as part of an existing or proposed partnership or consortium that includes two or more high-quality charter schools, as defined in thisnotice . . .”

Comment: One commenter suggested that the goal of Priority 1—Improving Efficiency through Economies of Scale is undermined by not including charter management organizations (CMOs) seeking to promote shared services and systems. The commenter noted that CMOs are often at the forefront of efforts to share services and systems, and that successful CMOs can serve as national models and leaders for district and charter schools in developing these shared systems and economies of scale. Conversely, another commenter suggested that Priority 1—Improving Efficiency through Economies of Scale clarify whether eligible applicants must be CMOs.

Discussion: To clarify, CMOs are eligible applicants under Priority 1. Eligible applicants include public and private nonprofit organizations with a mission that explicitly includes operating, supporting, or managing charter schools; this eligibility includes CMOs and many other types of organizations. In addition, upon further review, we determined that the language of the proposed priority would have allowed a single CMO to develop a partnership or consortium comprised solely of schools within its network, which was not the intent. We revised paragraph (2) of Priority 1—Improving Efficiency through Economies of Scale to clarify that the applicant must describe how activities will include members or proposed members that are not affiliated exclusively with a common network (e.g., a charter management organization). As such, a CMO applicant's project must include other entities beyond its current network. This requirement does not exclude CMOs from applying, but it does require project applications from CMOs to identify members of the proposed partnership or consortium beyond their network.

Change: We revised paragraph (2) of Priority 1—Improving Efficiency through Economies of Scale to “The members or proposed members of the partnership or consortium, how the composition of this partnership or consortium contributes to achieving efficiencies, and the specific activities each member or proposed member will implement. Applicants must demonstrate that members of the existing or proposed partnership or consortium are not affiliated exclusively with a common network (e.g., a charter management organization).”

Comment: Two commenters made suggestions regarding consortia in Priority 1—Improving Efficiency through Economies of Scale. One commenter suggested that charter schools that are not yet high-quality charter schools be allowed to participate in consortia and receive services through consortia. The commenter noted that the current language could be interpreted to only allow consortia to serve schools that already meet the definition of high-quality charter schools, thus reducing the effectiveness and viability of consortia. In addition, one commenter suggested that the priority should not be limited to developing consortia of charter schools but rather encourage the development of any innovative system that achieves economies of scale in the charter sector.

Discussion: The Department would like to clarify that Priority 1—Improving Efficiency through Economies of Scale does not limit consortia to serving only schools that meet the definition of high-quality charter schools; however, all charter schools that apply as part of a partnership or consortium, or apply under a group application, must meet that definition. The purpose of this priority is to establish a connected group that will create an opportunity for charter schools to develop strategies and practices to assist the charter schools in becoming high-quality charter schools (as defined in this notice). This priority creates an opportunity for charter schools to develop strategies and practices that will assist them in becoming high-quality charter schools, as defined by standards in this notice or by State and authorizer standards, whichever are more rigorous. Consortia members are not limited to charter schools; they may be comprised of any organizations that meet the eligibility requirements under the Eligibility section of this notice. As discussed elsewhere in this notice, we clarified this point by editing the second introductory paragraph of Priority 1. In addition, upon further review of the priority language, we changed the first introductory paragraph of Priority 1 and paragraph (3) of Priority 1. Creating and sustaining high-quality charter schools (as defined in this notice) is a fundamental component of high-quality authorizing; however, while authorized public chartering agencies should only approve petitions from applicants that demonstrate the capacity to create high-quality charter schools, we recognize that it is not possible for newly created charter schools to meet the definition of a high-quality charter school because the definition includes a requirement that the school show evidence of strong academic results for the past three years (or over the life of the school, if the school has been open for fewer than three years). As discussed elsewhere in this notice, new charter schools would not be able to meet the requirements of this definition. In addition to language that would help in creating charter schools that demonstrate the capacity to become high-quality and in sustaining those that are high-quality, we added language to support new charter schools in becoming high-quality.

Changes: We revised the first introductory paragraph of Priority 1—Improving Efficiency through Economies of Scale by replacing “creating and sustaining high-quality charter schools” with “creating, supporting, and sustaining high-quality charter schools (as defined in this notice).” In addition, in paragraph (3) of Priority 1, we replaced “How proposed project activities will help create and sustain high-quality charter schools” with “How the proposed project activities will help create charter schools that demonstrate the capacity to become high-quality charter schools, support new charter schools to become high-quality charter schools, and sustain charter schools that are high-quality.”

Comment: One commenter suggested that under Priority 1—Improving Efficiency through Economies of Scale, we broaden the scope of allowable activities to encourage information sharing and efforts, such as developing common systems of open enrollment.

Discussion: As stated in Priority 1—Improving Efficiency through Economies of Scale, applicants should seek innovative solutions to achieve efficiencies in the use of time, staff, money, services for special populations, or other resources for the purpose of creating, supporting, and sustaining high-quality charter schools (as defined in this notice). As written, the priority language provides applicants the flexibility and discretion to propose projects that achieve efficiencies in any of the areas included in the priority language. As such, an applicant is not prohibited from proposing activities to encourage information sharing and efforts such as developing common systems of open enrollment so long as that applicant meets the requirements of this priority and all eligibility requirements.

Changes: None.

Comment: One commenter suggested that we add language to paragraphs (1) and (2) under Priority 1—Improving Efficiency through Economies of Scale that requires applicants to document the involvement of parents and other members from the community where the charter school will be located. The commenter also suggested that applicants should be required to communicate guidance, rules, policy changes, and expectations to approved charter schools and the school's student applicants in an effective and timely manner.

Discussion: We appreciate the commenter's support for family and community engagement and effective communication with charter schools and their applicants and think because of the wide range of projects that could be considered under this priority, it is not appropriate to require a family and community engagement component of all applicants. In addition, a requirement to communicate guidance, rules, policy changes, and expectations to approved charter schools and the school's student applicants in an effective and timely manner would be included in a grant application and not in this final priority. Such requirements, if any, will be detailed in the notice inviting applications or application package for any future competition under this program.

Changes: None.

Comment: None.

Discussion: Upon further review, we determined that paragraph (1) of proposed Priority 1—Improving Efficiency through Economies of Scale, which supports projects that improve efficiency in the “use of time, staff, money, services for special populations, or other areas,” should be revised. We think that the word “areas” is too broad, and that “resources” suggests achieving economic efficiencies in a way that “areas” does not.

Changes: In paragraph (1) of Priority 1—Improving Efficiency through Economies of Scale, we replaced “areas” with “resources.” This change also maintains consistency in the language with the first sentence of the priority.

Comment: None.

Discussion: Upon further review, we realized that in the introductory paragraph of Priority 1—Improving Efficiency through Economies of Scale, we refer to “partnership or consortium” but we also refer to “consortium or consortia” in the priority. We want to maintain consistent language in these references.

Changes: We replaced “consortium or consortia” in the second introductory paragraph and paragraph (1) with “partnership or consortium.”

Comment: None.

Discussion: Upon further review, we determined that we could avoid using both “primarily” and “primary” in the same sentence in paragraph (4) of Priority 1—Improving Efficiency through Economies of Scale without changing the intended meaning. Accordingly, we have replaced “primary” with “chief.” In addition, in that same paragraph, we added LEAs as an example of a stakeholder group to whom the project activities could be disseminated secondarily.

Changes: We replaced the phrase “primarily to charter schools as the primary stakeholder group” with “primarily to charter schools as the chief stakeholder group.” We also included the term “LEAs” to read“. . . such as charter school support organizations, LEAs, and authorized public chartering agencies, as appropriate, at the charter school national level (as defined in this notice).”

Comment: None.

Discussion: Upon further review of Priority 1—Improving Efficiency through Economies of Scale, we determined that the dissemination strategy required under paragraph (4) includes dissemination at the charter school national level (as defined in this notice) and this creates confusion with the “national significance and scope” described in paragraph (6). To clarify our intent, we have edited “national significance and scope” to “national significance” in paragraph (6).

Changes: We replaced “national significance and scope” with “national significance” in paragraph (6) of Priority 1—Improving Efficiency through Economies of Scale.

Comment: One commenter suggested that a statement in the background section to Proposed Priority 2--Improving Accountability in the NPP be retracted. The sentence in the NPP said, “Once schools are open, accountability practices for charter schools need to be strengthened within States.” In addition, the commenter noted that use of the term “more consistently” in this same section of the background in the NPP has no backing to substantiate the claim that authorizers need to review their accountability practices.

Discussion: In the background section for this priority in the NPP, we provided an explanation of the development of the priority. Because charter schools across the country are not authorized by a single entity and 43 distinct sets of State laws govern charter schools, the potential for inconsistency exists in how charter schools are held accountable for their academic, financial, and operational performance results. In addition, we think that accountability practices for charter schools need to be strengthened within States. Priority 2—Improving Accountability is designed to support improvements in the accountability of authorizers. Specifically, this priority aims to support the dissemination of effective authorizing practices to all authorizers so they adopt practices that will strengthen oversight.

Changes: None.

Comment: One commenter noted that the language in paragraph (2) of Priority 2—Improving Accountability precludes applicants that serve charter schools in one State, or one city, from the opportunity to apply for funds and to extend their reach nationally. The commenter noted that the CSP Grants for National Leadership Activities competition would exclude the best of local authorized public chartering agencies that authorize charter schools in only one State or city.

Discussion: The purpose of Priority 2—Improving Accountability is to ensure that applicants build authorizer capacity and disseminate successful practices within multiple regions of the United States. While this requirement would limit local authorized public chartering agencies from applying individually, eligible applicants may apply as a partnership or consortium, allowing them to pool their experiences, skills, and resources. An authorized public chartering agency that authorizes charter schools in only one State could propose a project to improve authorized public chartering agencies' capacity at the regional level or national level.

Changes: None.

Comment: One commenter suggested that we add language to Priority 2—Improving Accountability that would require authorizers to develop and implement policies on how they will monitor charter applicants providing services to students with disabilities.

Discussion: To the extent that the commenter is referring to authorizer monitoring of the academic performance of charter schools, we agree that it is important for authorizers to focus in particular on students with disabilities. In addition, upon further review, we think it is also important for authorizers to focus similarly on English learners and other students in need of specialized services. Accordingly, we revised Priority 2—Improving Accountability by adding language that requires CSP Grants for National Leadership Activities applicants to include metrics to assess educational equity for students with disabilities, English learners, and other students in need of specialized services in their descriptions of the types of data authorizers should use to monitor and oversee charter schools. In addition, it is important to note that under section 612(a)(11) of the Individuals with Disabilities Education Act (IDEA) and 34 CFR 300.149(a)(2)(ii), the State educational agency, in carrying out its general supervisory responsibility, is required to ensure that all educational programs for students with disabilities administered in the State, including any other State agency or local agency, meet the educational standards of the State educational agency, including the requirements in the IDEA. Thus, under IDEA, the SEA has an overarching responsibility to ensure that all program requirements in the IDEA are met and to monitor implementation of those requirements by eligible entities, including charter schools that operate as LEAs that have established their eligibility under section 613 of the IDEA for Part B of the IDEA funds, and charter schools that are public schools of LEAs that receive Part B funds.

Changes: We revised paragraphs (1)(ii) and (2)(ii) of Priority 2—Improving Accountability to “Monitor and oversee charter schools through measureable performance goals and multiple sources of regularly collected academic and operational performance data (using financial data, disaggregated student discipline data, and disaggregated student performance data, including metrics to assess educational equity for students with disabilities, English learners, and other students in need of specialized services).”

Comment: One commenter suggested we expand Priority 2—Improving Accountability to ensure the eligibility of projects proposed by charter support organizations that are designed to improve the capacity to develop and track measurable performance goals. The commenter stated that responsibility for the success of a charter school rests on the school and its governing organization, and that any priority for improved accountability must also include activities that focus on school-level accountability.

Discussion: We recognize the importance of factors, such as governance and performance management, to charter operators and authorized public chartering agencies. However, Priority 2—Improving Accountability is designed to address accountability through authorized public chartering agencies. The types of activities suggested by the commenter would fall within the scope of Priority 1—Improving Efficiency through Economies of Scale.

Changes: None.

Comment: One commenter suggested Priority 2—Improving Accountability be a competitive preference priority because the commenter's State does not address authorizer accountability.

Discussion: The intent of Priority 2—Improving Accountability is to support projects that are designed to improve authorizer capacity. We think this priority will encourage authorizers to improve their practices, even if their State does not clearly address authorizer accountability. In addition, as stated elsewhere in this notice, this action is designed only to establish the priorities that we may choose to use in the CSP Grants for National Leadership Activities competitions in 2015 and future years. We do not designate whether a priority will be absolute, competitive, or invitational in this notice.

Changes: None.

Comment: One commenter suggested that we should broaden the scope of Priority 2—Improving Accountability to clarify that successful applicants may work with non-authorizers that have influence over, and play a role in, improving authorizer quality.

Discussion: Applicants may propose dissemination activities described in paragraphs (3) and (4) of Priority 2 that include organizations other than authorized public chartering agencies, such as SEAs or charter support organizations, so long as authorized public chartering agencies are the primary focus of those activities. While we understand the important role of non-authorizers in authorizer accountability, the intent of this priority is to build authorizer capacity.

Changes: None.

Comment: One commenter suggested that the phrase “within a variety of communities” in Priority 2—Improving Accountability be clarified or removed, as it is unclear to the commenter whether “communities” means geographic communities or another type of community.

Discussion: In this context, we intend “within a variety of communities” to mean a variety of geographic communities, specifically communities at the regional level (as defined in this notice), or at the national level (as defined in this notice). Notably, we added definitions of “national level” and “regional level,” and these definitions include the “variety of communities” phrasing that the commenter referenced. Therefore, we deleted the phrase from the language of Priority 2 to avoid duplicative phrasing.

Changes: We changed the text of Priority 2, paragraph (1) to “How the proposed project will improve, at the regional level (as defined in this notice) or the national level (as defined in this notice), authorized public chartering agencies' capacity to . . . ” We also changed the text of Priority 2, paragraph (2) to “The applicant's prior success in improving, at the regional level (as defined in this notice) or the national level (as defined in this notice), authorized public chartering agencies' capacity to . . .”

Comment: One commenter suggested that Priority 2—Improving Accountability should clarify the goal of improving authorizer capacity in paragraphs (1)(i) and (2)(i) by focusing on improving standards of approval, not the capacity to approve charter schools.

Discussion: To clarify, the intent of paragraphs (1)(i) and (2)(i) is improving standards of approval by authorized public chartering agencies. We think that ambitious standards for approving charter school applications and rigorous application review processes will ensure that authorizers approve only charter school applications that demonstrate the capacity to create and sustain high-quality charter schools (as defined in this notice). Furthermore, it is not feasible to expect authorizers to approve only high-quality charter schools, as the definition includes a requirement that the school show evidence of strong academic results for the past three years (or over the life of the school, if the school has been open for fewer than three years). We recognize that new charter schools would not be able to meet this requirement as they would not yet have evidence of strong academic results.

Changes: We replaced “Approve only high-quality charter schools that meet the standards of a rigorous application process and review” in paragraphs (1)(i) and (2)(i) of Priority 2—Improving Accountability with “Approve only applications that demonstrate capacity to create and sustain high-quality charter schools (as defined in this notice) and meet the standards of a rigorous application process and review.”

Comment: One commenter stated that the language ”maintain portfolios of high-quality charter schools by evaluating authorizer and portfolio performance and disseminating information on the performance of those portfolios” in proposed Priority 2—Improving Accountability was unclear and recommended it be removed.

Discussion: Evaluating authorizer and portfolio performance will result in more high-quality charter schools being approved; however, for the reasons discussed elsewhere in this notice, we understand that it is practically infeasible to use the “high-quality charter school” definition proposed in the NPP for charter school applicants that have not yet begun educating students. As such, we agree with the commenter that clarification is needed and have edited the language of Priority 2—Improving Accountability to provide that clarification.

In addition, while not in response to public comment, upon further review of Priority 2—Improving Authorizer Accountability, we removed “and help improve the ability of other authorized public chartering agencies to produce similar results” from paragraph (2)(iv). Our intent in this section is for applicants to include information about their prior successes in evaluating authorizer and portfolio performance and disseminating information on that performance. We did not intend for applicants that are authorized public chartering agencies to be required to show how they have helped other authorized public chartering agencies to produce similar results, as the proposed language implied.

Changes: We replaced “Maintain portfolios of high-quality charter schools by evaluating authorizer and portfolio performance and disseminating information on the performance of those portfolios” in Priority 2—Improving Accountability, paragraphs (1)(iv) and (2)(iv) with “Evaluate authorizer and portfolio performance and disseminate information on that performance.” We also removed “and help improve the ability of other authorized public chartering agencies to produce similar results” from paragraph (2)(iv).

Comment: One commenter suggested the Department encourage authorizers to employ data effectively by ensuring the data are available to and usable to relevant stakeholders, including parents and community members. The commenter also suggested that Priority 2—Improving Accountability support charter school authorizers that include disaggregated student data and data on student growth in their performance management systems.

Discussion: We appreciate the comments about the effective use of data, including the use of disaggregated student data to promote authorizer accountability. We believe applicants could use the dissemination activities described in Priority 2—Improving Accountability paragraphs (3) and (4) to ensure that data are made available to multiple stakeholders, including parents and community members. As such, we decline to edit that portion of the priority language. However, we agree that disaggregated data are important, particularly in identifying achievement gaps and discipline disparities, and including student growth data in performance management systems will improve the ability of authorizers to monitor and oversee charter schools as well as to measure performance. As such, we revised the priority language to emphasize the use of performance data.

Changes: In the introductory paragraph of Priority 2—Improving Accountability, we revised “monitor and oversee charter schools using data and measurable performance goals” to “monitor and oversee charter schools using multiple sources of data, including disaggregated student data, and measurable performance goals.” In addition, in paragraphs (1)(ii) and (2)(ii), we revised the language “Monitor and oversee charter schools through the regular collection of data, including student performance and financial data, and measurable performance goals” to “Monitor and oversee charter schools through measurable performance goals and multiple sources of regularly collected academic and operational performance data (using financial data, disaggregated student discipline data, and disaggregated student performance data, including metrics to assess educational equity for students with disabilities, English learners, and other students in need of specialized services).” In addition, upon further review, we revised the introductory paragraph of Priority 2—Improving Accountability by replacing “communicate the performance of that portfolio” with “disseminate information on the performance of charter schools,” as we think this language more closely corresponds to paragraph (3) of Priority 2.

Comment: One commenter suggested that Priority 2—Improving Accountability could improve accountability and authorizer practices through: Collective voluntary accountability, where a self-monitoring network could exist within the public charter school community; experimentation with new approaches such as parental influence on school accountability; and building knowledge bases, where authorized public chartering agencies could provide assistance to other authorizers in implementing successful practices that improve the quality of schools they authorize.

Discussion: The intended focus of Priority 2—Improving Accountability is on improving authorizer capacity, as we think effective authorizing and oversight influence charter school quality. While voluntary accountability, parental influence on accountability, and knowledge building and sharing could be components of improving accountability and authorizer practices, we think improving authorizer capacity, as described in Priority 2—Improving Accountability, would have the largest impact on improving accountability, and would, in turn, increase quality in the charter school sector.

Changes: None.

Comment: One commenter suggested that a research and evaluation component be added to Priority 2—Improving Accountability to enhance national understanding of high-quality authorizing and how policy can best support it. The commenter noted that the proposed priority should also consider how local districts and authorizers managing a diverse portfolio of schools can improve their accountability frameworks for both the public charter and non-chartered public sectors.

Discussion: In addition to meeting other requirements, successful applicants under this priority must improve authorizer capacity to evaluate authorizer and portfolio performance and disseminate that information to help improve the ability of other authorized public chartering agencies to produce similar results. While we think research and evaluation could greatly benefit authorizers, we decline to make a change. Provided that they meet all requirements under this priority, applicants' research and evaluation activities would be allowable under this program. In addition, the selection criterion 34 CFR 75.210(h), Quality of the Project Evaluation, provides selection factors that encourage applicants to conduct rigorous evaluations of their projects, which could be incorporated in the selection criteria for a future competition under this program.

Changes: None.

Comment: One commenter suggested that the activities under Priority 3—Students with Disabilities do not address the need of public charter schools to provide instruction for students with disabilities in the least restrictive environment (LRE), which is a major component of the IDEA.

Discussion: We agree with the commenter that LRE is critical to the education of all children with disabilities in charter schools. Because under the IDEA, students with disabilities and their parents retain all rights under the IDEA, including the right to be educated in the LRE, we do not believe it is necessary for this priority to focus on the IDEA's LRE requirements.

Changes: None.

Comment: One commenter stated that studies have shown that the lack of enrollment of students with disabilities in public charter schools is the result of policies and practices designed to minimize the enrollment of these students and not a capacity issue. The commenter further stated that “strategies and tools” referenced in Priority 3—Students with Disabilities are not the same as the “practices” referred to in the recommendations from a recent report by the U.S. Government Accountability Office (GAO).¹

¹ U.S. Government Accountability Office. “Charter Schools: Additional Federal Attention Needed to Help Protect Access for Students with Disabilities.” GAO-12-543: Published Jun 7, 2012. Available at: www.gao.gov/assets/600/591435.pdf.

Discussion: While we agree with the commenter that the enrollment of students with disabilities in public charter schools is an important issue, we find that studies on this topic have not identified a single reason for any disparity in enrollment that may occur in some schools and districts. The GAO report recommended that “the Secretary of Education take measures to help charter schools recognize practices that may affect enrollment of students with disabilities . . . ” We think that the “strategies and tools” that applicants develop in response to this priority will help them identify and improve practices that may affect enrollment of students with disabilities and increase equitable access to students with disabilities in public charter schools.

Changes: None.

Comment: One commenter stated that “promising practices,” as used in Priority 3—Students with Disabilities, are instructional approaches that improve student achievement, not approaches that only increase students with disabilities' access to schools to which they already have a legal right to attend. Furthermore, the commenter stated that an abundance of knowledge already exists on how to improve student achievement, and improving the achievement of students with disabilities in public charter schools does not differ significantly from improving their achievement in non-chartered public schools.

Discussion: We disagree that “promising practices” only refers to instructional approaches, and we consider practices that increase equitable access to public charter schools for students with disabilities and the schools' capacity to enroll students with disabilities, as well as approaches that improve student achievement, student growth, high school graduation rates, and college enrollment rates for students with disabilities to be promising practices.

While existing resources for improving the achievement of students with disabilities can benefit public charter schools and non-chartered public schools, charter schools need to be aware of, and have access to, such resources.

Changes: None.

Comment: One commenter suggested that to better address any issues that may exist around the enrollment of students with disabilities in public charter schools, the activities should be more closely aligned with recommendations made in the GAO report on the enrollment of students with disabilities in charter schools.²

² Id.

Discussion: The GAO report referenced above made the following recommendations:

1. Update existing guidance to ensure that public charter schools have better information about their obligations related to the enrollment of students with disabilities; and

2. Conduct additional fact finding and research to understand the factors affecting enrollment of students with disabilities in public charter schools and act upon that information, as appropriate.

We are in the process of updating existing guidance on the rights of students with disabilities in charter schools and are conducting additional fact finding and research to understand the factors affecting enrollment of students with disabilities in public charter schools. Our response to the GAO report cited above includes reviewing and documenting State policies, guidance, and reports regarding enrollment of, and services to, students with disabilities in charter schools and includes compiling a set of case studies of charter schools with both high and low enrollment of students with disabilities; these activities are continuing. In the meantime, the CSP Grants for National Leadership Activities competition includes Priority 3—Students with Disabilities to help address enrollment, access, and achievement of students with disabilities in charter schools.

In addition, the Department's response to the second recommendation in the GAO report stated that the CSP's grant competitions “are likely to continue to include competitive and invitational priorities for applications that propose to improve achievement for students with disabilities.” The inclusion of Priority 3—Students with Disabilities in this notice of final priorities addresses that recommendation.

Changes: None.

Comment: One commenter suggested that Priority 3—Students with Disabilities include a research component that would provide national leadership in discovering the nature of, and systematically identifying the solution to, the underrepresentation of students with disabilities in certain locations, as identified in the GAO report on the enrollment of students with disabilities in charter schools.³ The commenter also suggested the Department prioritize research on the outcomes of students with disabilities who attend charter schools.

³ Id.

Discussion: The Department understands the importance of research and evaluation of issues around the enrollment of students with disabilities in charter schools, which may advance policies that support equitable access to charter schools for students with disabilities. While this priority does not specifically mention research components, applicants may propose activities focused on research and evaluation. While not the primary intent of this program, those activities would be permitted, so long as the applicant meets all other requirements and submits an application that meets all parts of the priority.

Changes: None.

Comment: One commenter suggested that Priority 3—Students with Disabilities mention stand-alone strict discipline academies. Specifically, the commenter mentions that these academies do not meet the open enrollment requirement.

Discussion: To receive funding through the CSP, a charter school must meet all requirements outlined in the definition of a charter school in section 5210 of the Elementary and Secondary Education Act of 1965, as amended (ESEA).

Therefore, to qualify as an eligible applicant under the CSP Grants for National Leadership Activities competition, a charter school must meet all parts of the definition of a charter school in section 5210 of the ESEA. This includes section 5210(1)(G), which requires that a charter school comply with certain Federal civil rights laws, including section 504 of the Rehabilitation Act of 1973, and Part B of the IDEA, and section 5210(1)(H), which requires that it is a school to which parents choose to send their children, and that admits students on the basis of a lottery, if more students apply for admission than can be accommodated. Further, although we are not familiar with the requirements for “strict discipline academies,” charter school discipline policies and procedures must comply with the requirements of section 504 and section 615(k) of the IDEA and their implementing regulations.

Changes: None.

Comment: Several commenters suggested a third activity for Priority 3—Students with Disabilities and Priority 4—English Learners. Specifically, the commenters recommended developing cooperation and collaboration between a public charter school, a non-chartered public school, special education communities, and English learner advocacy communities be added to the priorities, as each sector would provide insightful development and promote dissemination of effective approaches to serving these students.

Discussion: We appreciate the commenters' support for Priority 3—Students with Disabilities and Priority 4—English Learners. We agree with the commenters that promoting collaborative activities between a charter school, a non-chartered public school, key special education stakeholders, and key English learner stakeholders is important. After reviewing the comments, we also consider the suggested additions to be beneficial to both Priority 3—Students with Disabilities and Priority 4—English Learners.

Changes: We added the following activity as paragraph (3) of Priority 3—Students with Disabilities: “Promoting collaborative activities between charter schools, non-chartered public schools, and key special education stakeholders designed to improve student achievement, including student growth, and attainment (e.g., high school graduation rates, college enrollment rates) for students with disabilities.” We also added the following corresponding activity as paragraph (3) of Priority 4—English Learners: “Promoting collaborative activities between charter schools, non-chartered public schools, and key English learner stakeholders designed to improve student achievement, including student growth, and attainment (e.g., high school graduation rates, college enrollment rates) for English learners.”

Comment: One commenter suggested changing the wording of the “activities” section of Priority 3—Students with Disabilities to more appropriately reflect the legal obligations of public charter schools. The commenter suggested that projects designed to ensure equitable enrollment, recruitment, and opportunities in charter schools for students with disabilities would more accurately reflect the responsibility incumbent on public charter schools. Another commenter suggested that charter schools must be held accountable for ensuring access to all students and for providing meaningful teaching and instruction designed to improve educational outcomes for those students. The commenter felt that the language in the NPP did not include a focus on recruitment and serving students with disabilities.

Discussion: We agree that public charter schools must provide equitable access to students with disabilities. In this context, we think equitable access includes equitable enrollment opportunities as well as capabilities of public charter schools to meet the needs of students with disabilities during recruitment and once enrolled. In addition, we place a similar emphasis in Priority 4—English Learners.

Changes: We changed the language of Priority 3—Students with Disabilities and Priority 4—English Learners by replacing “to increase access” throughout with “to increase equitable access.” In Priority 3, we also changed “increase charter schools' capacity to enroll students with disabilities” in paragraphs (1) and (2) to “increase charter schools' capacity to recruit, enroll, and serve students with disabilities.” Throughout Priority 4, we made corresponding edits to maintain consistency with Priority 3. Specifically, we replaced “increase charter schools' capacity to enroll English learners” with “increase charter schools' capacity to recruit, enroll, and serve English learners . . .”

Comment: None.

Discussion: After additional review, we determined that Priority 3—Students with Disabilities and Priority 4—English Learners could be clarified by consistently referring to schools as “charter schools,” where appropriate. In addition, we determined that, depending on the nature of the project, it may not always be appropriate for each project under Priority 3 to “improve student achievement, student growth, high school graduation rates, and college enrollment rates for students with disabilities.” We edited paragraph (1) of Priority 3 to “improve student achievement, including student growth, and attainment (e.g., high school graduation rates, college enrollment rates) for students with disabilities” to allow more flexibility. Similarly, for Priority 4, we edited paragraph (1) to “improve student achievement, including student growth and English proficiency, and attainment (e.g., high school graduation rates, college enrollment rates) for English learners.” We made corresponding changes to paragraph (2) of both priorities for the same reason. Finally, we added “. . . of students with disabilities” in the introductory paragraph of Priority 3, to maintain a consistent structure with Priority 4.

Changes: For both Priority 3—Students with Disabilities and Priority 4—English Learners, we inserted the word “charter” before schools in three places. These changes do not alter the intended meaning; rather, we are adding the word “charter” to ensure clarity. In addition, in paragraph (1) of both priorities, we added the phrase “to recruit, enroll, and serve.” We also replaced “increase charter schools' enrollment, as well as improve achievement . . .” with “increase charter schools' enrollment of students with disabilities, as well as improve achievement . . .”

Comment: One commenter suggested that the Department follow the recommendations in the GAO report on English learners in charter schools ⁴ to examine why charter schools are unable to provide accurate enrollment numbers of specific student populations, especially English learner populations. The commenter noted the importance of educators gaining a better understanding of the nature of the problem at a national level, which will better position researchers and practitioners to address concerns of limited access to charter schools for English learners.

⁴ U.S. Government Accountability Office. ”Education: Education Needs to Further Examine Data Collection on English Language Learners in Charter Schools.” GAO-13-655R: Published Jul 17, 2013. Available at: www.gao.gov/assets/660/655930.pdf.

Discussion: The Department agrees that a better understanding of charter school non-reporting or under-enrollment of English learners should be addressed. In response to the GAO report's finding that they were unable to compare English learners' enrollment in charter schools to English learners enrollment in non-chartered public schools due to incomplete data, the Department continues to improve its data collection and has been conducting a systematic review and reconciliation of directory data across data sources. In addition, the CSP Grants for National Leadership Activities competition includes Priority 3—Students with Disabilities and Priority 4—English Learners to help address the issues of enrollment, access, and achievement of students with disabilities and English learners in charter schools. We do not explicitly include data collection in either priority because data collection activities may be eligible project activities under Priority 3 or Priority 4.

Changes: None.

Comment: One commenter suggested that Priority 5—Personalized, Technology-Enabled Learning should specifically exclude virtual schools from eligibility.

Discussion: Virtual schools, provided they meet the eligibility requirements described in the Eligibility section, will not automatically be deemed ineligible. However, the intent of this priority is to support projects that incorporate learning models that blend traditional, classroom-based teaching and learning with virtual, online, or digital delivery of personalized instructional content, and which are national in scope.

Changes: None.

Comment: One commenter suggested that the Department expand each priority to ensure that students with disabilities are specifically mentioned as examples of the students who may require personalized and technology-based supports and services. The commenter noted that, in particular, Priority 5—Personalized Technology-Enabled Learning will be most effective if it builds on previous work funded by the Department that provided training to charter school authorizers and operators focused on serving students with disabilities.

Discussion: Activities that focus on students with disabilities may be included under any priority, and activities that include personalized and technology-based services would be eligible under Priority 5—Personalized Technology-Enabled Learning. We agree that students with disabilities can benefit from personalized learning, and Priority 5—Personalized Technology-Enabled Learning provides that such projects should be designed to support high-need students (as defined in this notice), which includes students with disabilities.

Changes: None.

Comment: One commenter suggested the Department clarify the types of activities that it considers essential and that would be supported under Priority 5—Personalized Technology-Enabled Learning; specifically, the commenter suggested highlighting blended learning as a model supported under this priority. Similarly, another commenter provided specific examples of the types of activities that should be supported under this priority. A third commenter suggested that the Department ensure Priority 5—Personalized Technology-Enabled Learning focus on the development of education technology and online platforms, collaborative practices, and instructional models for dissemination, in addition to research into blended learning implementation.

Discussion: The CSP Grants for National Leadership Activities competition is designed to encourage innovative solutions to address a number of public educational needs across the Nation. In order to support innovation in technology-enabled instructional models, tools, and supports, we do not want to restrict applicants to specific types of activities and have written this priority to allow applicants flexibility in the projects they propose. In addition, we note that applicants proposing projects with a focus on education technology and online platforms, collaborative practices, and instructional models for dissemination may be eligible under Priority 1—Increasing Efficiency through Economies of Scale, in addition to Priority 5.

Changes: None.

Comment: None.

Discussion: After additional review, we determined that the language of Priority 5—Personalized Technology-Enabled Learning should remain consistent with an ultimate goal of increasing overall student learning, rather than simply providing instruction. The technology-enabled instructional models, tools, and supports referenced in this priority are intended to personalize students' learning. The phrase “personalize instruction” that was included in the proposed priority implies an emphasis on the process, (i.e., instruction), rather than on the outcome (i.e., learning).

Changes: We removed the phrase “personalize instruction” from Priority 5—Personalized Technology-Enabled Learning and revised the priority language to say “supports that personalize learning.”

Definitions

Comment: None.

Discussion: We added the definitions for “national level” and “regional level,” as these terms are now referenced within other parts of this notice. These definitions are used in other Department grant competitions and the definitions come from 34 CFR 77.1.

Changes: The definitions for “national level” and “regional level” have been added.

Comment: One commenter suggested the Department revise the definition of “significant compliance issues” to accommodate current practice by rigorous authorizers that are unlikely to revoke a charter for a single or limited event. The commenter further explained that the proposed definition reflected a zero-tolerance approach that is inappropriate, as it takes a pattern of misbehavior, or individual failures that are more egregious, to lead an authorized public chartering agency to revoke a school's charter.

Discussion: The Department agrees with the need for further clarification on the issue of compliance with Federal and State law, and authorizer policy.

Changes: We revised the definition of “significant compliance issue” to clarify that these are issues that, if not addressed or are representative of a pattern of misconduct or non-compliance, could lead to the revocation of a school's charter.

Comment: Two commenters suggested altering the definition of “charter school national level.” One commenter suggested changing the proposed definition to clarify that any public or private nonprofit organization with a mission that explicitly includes supporting charter schools is eligible for this competition, including those that are able to support a wide variety of charter schools from both urban and rural areas. Another commenter noted that the definition places an undue burden on an applicant to disseminate urban-focused best practices to agencies, organizations, or groups that must serve rural agencies.

Discussion: The definition of “charter school national level” is not designed to limit eligible organizations, but rather to define a level at which activities take place. The Department believes that a broad, national scope for project activities and for dissemination is necessary to meet the goals of the program.

Changes: None.

Comment: Multiple commenters requested that the definition of “high-quality charter school” be revised. One commenter suggested the Department make the definition consistent with the definition of “highly mobile students,” with particular attention given to how highly mobile students and related data will be counted in accountability assessments across State lines. Two other commenters noted that the proposed definition for high-quality charter school did not take into account new schools with no achievement data and would be applied comprehensively, instead of considering additional factors that make up high-quality schools. In addition, one of those commenters stated that the proposed definition did not take into account the role of authorizers and accountability systems within applicable States.

Discussion: The definition of “high-quality charter school” is designed to emphasize the importance of a school's evidence of strong academic performance for the past three years, or over the life of the school, if the school has been open for fewer than three years, and we decline to make the definition consistent with that of highly mobile students, which is not used in this notice. We agree that the proposed definition of “high-quality charter school” should be strengthened to take into account the role of authorizers and accountability systems and have added paragraph (a)(4), which focuses on the results of a performance framework established by the State or authorized public chartering agency. In addition, we made a number of clarifying edits to paragraphs (a)(1) and (a)(3). These are not intended to change the meaning of the priority but only to clarify our intent. As described elsewhere in this document, we also edited parts of Priority 1—Improving Efficiency through Economies of Scale and Priority 2—Improving Accountability so authorizers are not held accountable for authorizing only high-quality charter schools or only having high-quality charter schools in their portfolios of schools. In addition, the insertion of “and equitable and nondiscriminatory treatment for students” in paragraph (a)(5) of the high-quality charter school definition is meant to ensure that compliance extends to the civil rights of students. Upon further review, we edited paragraph (a)(1) of the same definition to include high school graduation rates and college and other postsecondary enrollment rates. Paragraph (a)(3) has been similarly edited in that the list of achieved results include student attendance, retention rates, and postsecondary attendance and persistence rates.

Changes: We added the clarifying phrases “(including, if applicable, high school graduation rates and college and other postsecondary enrollment rates)” and “served by the charter school” in paragraph (a)(1). In paragraph (a)(3), we added “student attendance and retention rates,” “postsecondary attendance and persistence rates,” and “if applicable and available” in paragraph (a)(3). We also removed the word “achieved” before the word “results” in paragraph (a)(3), as it is redundant. We added paragraph (a)(4): “Positive results on a performance framework established by the State or authorized public chartering agency for purposes of evaluating charter school quality” and renumbered proposed paragraph (a)(4) to be paragraph (a)(5). In the final paragraph (a)(5), we added “and equitable and nondiscriminatory treatment for students” at the end of the paragraph. We also added a new paragraph (b) to the definition to clarify that an applicant can use its State's definition of high-quality charter school, provided that the State's definition is at least as rigorous as the definition included in this notice.

Comment: None.

Discussion: Upon further review of the definition of “high-quality charter school,” we determined that the third paragraph of this definition, which has been used in multiple Department competitions and shows how achieved results compare to results for similar lol students in the State, was missing. Therefore, we included language to ensure the element is discussed.

Changes: In paragraph (a)(3) of the definition for “high-quality charter school,” we inserted “that are above the average academic achievement results for such students in the State.”

Comment: One commenter suggested that the definition of “student achievement” include other universally available measures of student learning that are tied to teacher evaluations, which currently are not addressed in the definition.

Discussion: The definition for “student achievement” requires that any measures used be comparable across schools, which we think is a key component of this definition. As noted elsewhere in this notice, it is important that the CSP Grants for National Leadership Activities competition use definitions consistent with other Department programs. Because of the variation in measures that tie student learning to teacher evaluations, and because proposed projects will be national in scope, we do not think that applicants would be able to compare increases in student achievement across districts and States if teacher evaluation measures were to be incorporated into this definition.

Changes: None.

Comment: Two commenters suggested that the proposed definition of “high-need students” should be reviewed for further clarification. One commenter suggested adding “first generation college-bound students” to the list of high-need student indicators. Another commenter noted that this definition should be reviewed to ensure the focus is on charter schools and not higher education.

Discussion: We agree with the commenters that it is important to ensure that each definition used in the CSP Grants for National Leadership Activities competition is appropriate to the CSP's mission. The definition for high-need students does not specifically mention charter schools or non-chartered public schools; however, any student at risk of educational failure would be included under the definition, regardless of the school that student attends.

Changes: None.

Comment: One commenter suggested that the Department develop definitions for “rural public charter schools” and “Rural State.”

Discussion: Rural public charter schools and rural State are not terms that are used in these priorities, so it is unclear how those definitions would be used. Because the commenter did not provide context for this suggestion, we are unable to provide additional clarification. Applicants that want to demonstrate their commitment to serving rural areas may use elements of the definition of “rural local educational agency,” which is defined by other programs at the Department as an LEA that is eligible under the Small Rural School Achievement program or the Rural and Low-Income School program authorized under Title VI, Part B of the ESEA. See www2.ed.gov/nclb/freedom/local/reap.html. The elements of the definition can be used by applicants to demonstrate their commitment to serving rural areas.

Changes: None.

Comment: One commenter suggested modifying the definition of “community of practice” to include public and private nonprofit organizations with a mission that explicitly includes supporting charter schools to better promote a community of practice within and across State lines.

Discussion: We currently include the term “stakeholders” in the definition, which provides a wider range of options than the suggested change. Because we do not want to unnecessarily limit participation in the community of practice (as defined in this notice), we decline to revise the term used in the definition in a manner that would limit the types of stakeholders included in the communities of practice.

Changes: None.

Comment: One commenter noted that the definition for “logic model” was different than the definition currently used in 34 CFR 77.1.

Discussion: As noted elsewhere in this notice, we agree that it is important the CSP Grants for National Leadership Activities competition use definitions consistent with other Department programs. As such, we will use the same definition for logic model as included in 34 CFR 77.1.

Changes: We replaced the term “charter school logic model” with “logic model” from 34 CFR 77.1.

Eligibility

Comment: One commenter suggested the language in the Eligibility section be reviewed. Specifically, the commenter felt that there is no explicit language permitting an applicant to apply as an individual nonprofit organization, although that may be implied. The commenter suggested we change “Eligible applicants may apply as a group or consortium” to “Eligible applicants may apply as an individual organization as defined above or as a partnership or consortium.” A second commenter asked whether an individual charter school operator could be an eligible applicant.

Discussion: Eligible applicants include public and private nonprofit organizations with a mission that explicitly supports operating, supporting, or managing charter schools, which makes individual organizations eligible. The intent of this grant competition is to support projects of national significance and scope; however, we agree that clarification is needed on whether individual charter schools are eligible. An individual charter school that meets all eligibility requirements could apply under this competition. We also want to clarify that eligible applicants may be organizations whose missions involve operating, supporting, and managing charter schools—not just supporting charter schools. Upon further review of the Eligibility section, we determined that additional clarity was needed to reflect that CMOs are eligible entities. In addition, upon further review, we added a requirement that, to the extent that eligible applicants that are partnerships or consortia include charter schools, the lead applicant, each charter school operated or managed by the lead applicant and all partnership or consortium members, including, in the case of a CMO applicant, all charter schools managed by the CMO, must meet the definition of high-quality charter school (as defined in this notice). We made this change to clarify that CMO applicants are eligible and that all charter schools in a partnership or consortium must meet the definition of high-quality charter school. We also added a requirement that eligible applicants that are charter schools may not have any significant compliance issues (as defined in this notice) to ensure that these applicants do not have any violations that did, will, or could lead to the revocation of the school's charter.

Changes: We edited the Eligibility section to include “public and private nonprofit entities with a mission that explicitly includes operating, supporting, or managing charter schools.” In addition, we added the following language to the Eligibility section: “Eligible applicants that are charter schools may not have any significant compliance issues (as defined in this notice), including in the areas of student safety, financial management, civil rights, and statutory or regulatory compliance. In addition, to the extent that eligible applicants that are partnerships or consortia include charter schools, the lead applicant, each charter school operated or managed by the lead applicant, and all partnership or consortium members, including, in the case of a CMO applicant, all charter schools managed by the CMO, must meet the definition of high-quality charter school (as defined in this notice).”

Comment: One commenter suggested changing the regulations that require eligible public and private nonprofit organizations to have a mission that explicitly includes supporting charter schools so that all organizations and communities affected by such policies may apply whether or not their missions provide explicit references to supporting charter schools. The commenter recommended that community-based organizations and national intermediaries that represent the communities served by charter schools be considered as eligible entities.

Discussion: The Eligibility section does not preclude community-based organizations and national intermediaries from applying, provided they meet all eligibility requirements, including that their organizational missions explicitly include supporting charter schools. Because funds for the CSP Grants for National Leadership Activities competition are appropriated for charter schools, we seek to ensure that organizations supported by these funds are focused on supporting charter schools.

Changes: None.

Final Priorities

The Assistant Deputy Secretary for Innovation and Improvement establishes the following five priorities for the CSP Grants for National Leadership Activities competition. We may apply one or more of these priorities in any year in which this program is in effect.

Priority 1—Improving Efficiency through Economies of Scale

This priority is for projects of national significance and scope that promote shared systems for acquiring goods or services to achieve efficiencies in the use of time, staff, money, services for special populations, or other resources for the purpose of creating, supporting, and sustaining high-quality charter schools (as defined in this notice).

An applicant addressing this priority must apply as part of an existing or proposed partnership or consortium that includes two or more high-quality charter schools, as defined in this notice, and must include detailed descriptions (including supporting documentation) of the following:

(1) The proposed project activities of the partnership or consortium and how and to what extent the activities will achieve efficiencies in the use of time, staff, money, services for special populations, or other resources related to operating charter schools;

(2) The members or proposed members of the partnership or consortium, how the composition of this partnership or consortium contributes to achieving efficiencies, and the specific activities each member or proposed member will implement. Applicants must demonstrate that members of the existing or proposed partnership or consortium are not affiliated exclusively with a common network (e.g., a charter management organization);

(3) How the proposed project activities will help create charter schools that demonstrate the capacity to become high-quality charter schools, support new charter schools to become high-quality charter schools, and sustain charter schools that are high-quality;

(4) How information about the proposed project activities will be disseminated primarily to charter schools as the chief stakeholder group, and secondarily to other stakeholders, such as charter school support organizations, LEAs, and authorized public chartering agencies, as appropriate, at the charter school national level (as defined in this notice);

(5) How the dissemination strategy will include assembling a community of practice (as defined in this notice) for the stakeholder group(s) served; and

(6) The national significance of the proposed project.

Priority 2—Improving Accountability

This priority is for projects of national significance and scope that are designed to improve authorized public chartering agencies' capacity to conduct rigorous application reviews; monitor and oversee charter schools using multiple sources of data, including disaggregated student data, and measurable performance goals; close underperforming schools; replicate and expand high-performing schools; maintain a portfolio of high-quality charter schools; and evaluate and disseminate information on the performance of charter schools.

Applicants addressing this priority must provide detailed descriptions (including supporting documentation) of the following:

(1) How the proposed project will improve, at the regional level (as defined in this notice) or the national level (as defined in this notice), authorized public chartering agencies' capacity to:

i. Approve only applications that demonstrate capacity to create and sustain high-quality charter schools (as defined in this notice) and meet the standards of a rigorous application process and review;

ii. Monitor and oversee charter schools through measurable performance goals and multiple sources of regularly collected academic and operational performance data (using financial data, disaggregated student discipline data, and disaggregated student performance data, including metrics to assess educational equity for students with disabilities, English learners, and other students in need of specialized services);

iii. Identify schools eligible for renewal and those that should be closed, through clear renewal and revocation criteria; and

iv. Evaluate authorizer and portfolio performance and disseminate information on that performance;

(2) The applicant's prior success in improving, at the regional level (as defined in this notice) or the national level (as defined in this notice), authorized public chartering agencies' capacity to:

i. Approve only applications that demonstrate the capacity to create and sustain high-quality charter schools (as defined in this notice) and meet the standards of a rigorous application process and review;

ii. Monitor and oversee charter schools through measurable performance goals and multiple sources of regularly collected academic and operational performance data (using financial data, disaggregated student discipline data, and disaggregated student performance data, including metrics to assess educational equity for students with disabilities, English learners, and other students in need of specialized services);

iii. Identify schools eligible for renewal and those that should be closed, through clear renewal and revocation criteria; and

iv. Evaluate authorizer and portfolio performance and disseminate information on that performance;

(3) How dissemination activities focus on authorized public chartering agencies as the primary stakeholder group, and secondarily on other stakeholders, such as charter school support organizations or charter schools, as appropriate, at the charter school national level (as defined in this notice);

(4) How the dissemination strategy will include assembling a community of practice (as defined in this notice) for the stakeholder group(s) served; and

(5) The national significance of the proposed project.

Priority 3—Students With Disabilities

This priority is for projects of national significance and scope that are designed to increase equitable access to charter schools for students with disabilities and increase charter schools' enrollment of students with disabilities, as well as improve achievement (including student achievement and student growth) and attainment (including high school graduation rates and college enrollment rates) for students with disabilities in charter schools, through one or more of the following activities:

(1) Developing strategies and tools to increase equitable access to charter schools for students with disabilities and increase charter schools' capacity to recruit, enroll, and serve students with disabilities, and improve student achievement, including student growth, and attainment (e.g., high school graduation rates, college enrollment rates) for students with disabilities.

(2) Disseminating promising practices for increasing equitable access to charter schools for students with disabilities; increasing charter schools' capacity to recruit, enroll, and serve students with disabilities; and improving student achievement, including student growth, and attainment (e.g., high school graduation rates, college enrollment rates) for students with disabilities.

(3) Promoting collaborative activities between charter schools, non-chartered public schools, and key special education stakeholders designed to improve student achievement, including student growth, and attainment (e.g., high school graduation rates, college enrollment rates) for students with disabilities.

Priority 4—English Learners

This priority is for projects of national significance and scope that are designed to increase equitable access to charter schools for English learners and increase charter schools' enrollment of English learners, as well as improve academic achievement (including student achievement and student growth) and attainment (including English proficiency, high school graduation rates, and college enrollment rates) for English learners, through one or more of the following activities:

(1) Developing strategies and tools to increase equitable access to charter schools for English learners; increase charter schools' capacity to recruit, enroll, and serve English learners; and improve student achievement, including student growth and English proficiency, and attainment (e.g., high school graduation rates, college enrollment rates) for English learners.

(2) Disseminating promising practices for increasing equitable access to charter schools for English learners; increasing charter schools' capacity to recruit, enroll, and serve English learners; and improving student achievement, including student growth and English proficiency, and attainment (e.g., high school graduation rates, college enrollment rates) for English learners.

(3) Promoting collaborative activities between charter schools, non-chartered public schools, and key English learner stakeholders designed to improve student achievement, including student growth and English proficiency, and attainment (e.g., high school graduation rates, college enrollment rates) for English learners.

Priority 5—Personalized Technology-Enabled Learning

This priority is for projects of national significance and scope that are designed to improve achievement and attainment outcomes for high-need students (as defined in this notice) through the development and implementation in charter schools of technology-enabled instructional models, tools, and supports that personalize learning.

Types of Priorities

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

Final Requirements

The Assistant Deputy Secretary for Innovation and Improvement establishes the following program requirements for the CSP Grants for National Leadership Activities competitions. We may apply one or more of these requirements in any year in which this program is in effect. By requiring that applicants provide a logic model supporting their projects and restricting eligibility for grants to specific types of entities, the Department will ensure that grantees have the preparation and experience to be successful with a CSP Grants for National Leadership Activities grant.

Application Requirements

(a) Logic Model: An applicant for a CSP Grants for National Leadership Activities grant must provide a logic model (as defined in this notice) supporting its project.

(b) Eligibility: Eligible applicants include (1) State educational agencies (SEAs) in States with a State statute specifically authorizing the establishment of charter schools; (2) authorized public chartering agencies; (3) public and private nonprofit organizations with a mission that explicitly includes operating, supporting, or managing charter schools; and (4) public and private nonprofit organizations in partnership with an SEA, authorized public chartering agency, or a public or private nonprofit organization with a mission that explicitly includes supporting charter schools. Eligible applicants may apply as a partnership or consortium and, if so applying, must comply with the requirements for group applications set forth in 34 CFR 75.127-75.129.

Eligible applicants that are charter schools may not have any significant compliance issues (as defined in this notice), including in the areas of student safety, financial management, civil rights, and statutory or regulatory compliance. In addition, to the extent that eligible applicants that are partnerships or consortia include charter schools, the lead applicant, each charter school operated or managed by the lead applicant, and all partnership or consortium members, including, in the case of a CMO applicant, all charter schools managed by the CMO, must meet the definition of high-quality charter school (as defined in this notice).

Final Definitions

In addition to the definitions otherwise included in section 5210 of the ESEA, which includes the definition of “charter school,” and 34 CFR 77.1, we are establishing the following definitions for the CSP Grants for National Leadership Activities competition. We may apply one or more of these definitions in any year in which this program is in effect.

Charter school national level means, with respect to an applicant's dissemination strategy, that the strategy covers a wide variety of charter schools, authorized public chartering agencies, charter support organizations, and other stakeholder groups within multiple States across the country, including rural and urban areas.

Community of practice means a group of stakeholders that interacts regularly to solve a persistent problem or to improve practice in an area that is important to them and the success of the grant project.

Graduation rate means a four-year adjusted cohort graduation rate consistent with 34 CFR 200.19(b)(1) and may also include an extended-year adjusted cohort graduation rate consistent with 34 CFR 200.19(b)(1)(v) if the State in which the proposed project is implemented has been approved by the Secretary to use such a rate under Title I of the ESEA.

High-need students means children and students at risk of educational failure, such as children and students who are living in poverty, who are English Learners, who are far below grade level or who are not on track to becoming college- or career-ready by graduation, who have left school or college before receiving, respectively, a regular high school diploma or a college degree or certificate, who are at risk of not graduating with a diploma on time, who are homeless, who are in foster care, who are pregnant or parenting teenagers, who have been incarcerated, who are new immigrants, who are migrant, or who have disabilities.

High-quality charter school means—

(a) A school that shows evidence of strong academic results for the past three years (or over the life of the school, if the school has been open for fewer than three years), based on the following factors:

(1) Increased student academic achievement and attainment (including, if applicable, high school graduation rates and college and other postsecondary enrollment rates) for all students, including, as applicable, educationally disadvantaged students served by the charter school;

(2) Either:

(i) Demonstrated success in closing historic achievement gaps for the subgroups of students described in section 1111(b)(2)(C)(v)(II) of the ESEA (20 U.S.C. 6311) at the charter school; or

(ii) No significant achievement gaps between any of the subgroups of students described in section 1111 (b)(2)(C)(v)(II) of the ESEA (20 U.S.C. 6311) at the charter school and significant gains in student academic achievement for all populations of students served by the charter school;

(3) Results (including, if applicable and available, performance on statewide tests, annual student attendance and retention rates, high school graduation rates, college and other postsecondary attendance rates, and college and other postsecondary persistence rates) for low-income and other educationally disadvantaged students served by the charter school that are above the average academic achievement results for such students in the State;

(4) Positive results on a performance framework established by the State or authorized public chartering agency for purposes of evaluating charter school quality; and

(5) No significant compliance issues (as defined in this notice), particularly in the areas of student safety, financial management, and equitable and nondiscriminatory treatment for students; or

(b) A high-quality charter school as defined by the State, provided that the State's definition is at least as rigorous as paragraph (a).

Logic model (also referred to as theory of action), as defined in 34 CFR 77.1(c), means a well-specified conceptual framework that identifies key components of the proposed process, product, strategy, or practice (i.e., the active “ingredients” that are hypothesized to be critical to achieving the relevant outcomes) and describes the relationships among the key components and outcomes, theoretically and operationally.

National level, as defined in 34 CFR 77.1(c), describes the level of scope or effectiveness of a process, product, strategy, or practice that is able to be effective in a wide variety of communities, including rural and urban areas, as well as with different groups (e.g., economically disadvantaged, racial and ethnic groups, migrant populations, individuals with disabilities, English learners, and individuals of each gender).

Regional level, as defined in 34 CFR 77.1(c), describes the level of scope or effectiveness of a process, product, strategy, or practice that is able to serve a variety of communities within a State or multiple States, including rural and urban areas, as well as with different groups (e.g., economically disadvantaged, racial and ethnic groups, migrant populations, individuals with disabilities, English learners, and individuals of each gender). For an LEA-based project to be considered a regional-level project, a process, product, strategy, or practice must serve students in more than one LEA, unless the process, product, strategy, or practice is implemented in a State in which the State educational agency is the sole educational agency for all schools.

Relevant outcome, as defined in 34 CFR 77.1(c), means the student outcome(s) (or the ultimate outcome if not related to students) the proposed process, product, strategy, or practice is designed to improve; consistent with the specific goals of a program.

Significant compliance issue means a violation that did, will, or could (if not addressed or if it represents a pattern of repeated misconduct or material non-compliance) lead to the revocation of a school's charter.

Student achievement means—

(a) For tested grades and subjects—

(1) A student's score on the State's assessments under the ESEA; and, as appropriate,

(2) Other measures of student learning, such as those described in paragraph (b) of this definition, provided they are rigorous and comparable across schools.

(b) For non-tested grades and subjects: Alternative measures of student learning and performance, such as student scores on pre-tests and end-of-course tests; student performance on English language proficiency assessments; and other measures of student achievement that are rigorous and comparable across schools.

Student growth means the change in achievement data for an individual student between two or more points in time. Growth may also include other measures that are rigorous and comparable across classrooms.

Final priorities, requirements, and definitions

This notice does not preclude us from proposing additional priorities, requirements, definitions, or selection criteria, subject to meeting applicable rulemaking requirements.

Note: This notice does not solicit applications. In any year in which we choose to use one or more of these priorities, requirements, and definitions we invite applications through a notice in the Federal Register.

Executive Orders 12866 and 13563

Regulatory Impact Analysis

Under Executive Order 12866, the Secretary must determine whether this regulatory action is “significant” and, therefore, subject to the requirements of the Executive order and subject to review by the Office of Management and Budget (OMB). Section 3(f) of Executive Order 12866 defines a “significant regulatory action” as an action likely to result in a rule that may—

(1) Have an annual effect on the economy of $100 million or more, or adversely affect a sector of the economy, productivity, competition, jobs, the environment, public health or safety, or State, local or tribal governments or communities in a material way (also referred to as an “economically significant” rule);

(2) Create serious inconsistency or otherwise interfere with an action taken or planned by another agency;

(3) Materially alter the budgetary impacts of entitlement grants, user fees, or loan programs or the rights and obligations of recipients thereof; or

(4) Raise novel legal or policy issues arising out of legal mandates, the President's priorities, or the principles stated in the Executive order.

This final regulatory action is not a significant regulatory action subject to review by OMB under section 3(f) of Executive Order 12866.

We have also reviewed this final regulatory action under Executive Order 13563, which supplements and explicitly reaffirms the principles, structures, and definitions governing regulatory review established in Executive Order 12866. To the extent permitted by law, Executive Order 13563 requires that an agency—

(1) Propose or adopt regulations only upon a reasoned determination that their benefits justify their costs (recognizing that some benefits and costs are difficult to quantify);

(2) Tailor its regulations to impose the least burden on society, consistent with obtaining regulatory objectives and taking into account—among other things and to the extent practicable—the costs of cumulative regulations;

(3) In choosing among alternative regulatory approaches, select those approaches that maximize net benefits (including potential economic, environmental, public health and safety, and other advantages; distributive impacts; and equity);

(4) To the extent feasible, specify performance objectives, rather than the behavior or manner of compliance a regulated entity must adopt; and

(5) Identify and assess available alternatives to direct regulation, including economic incentives—such as user fees or marketable permits—to encourage the desired behavior, or provide information that enables the public to make choices.

Executive Order 13563 also requires an agency “to use the best available techniques to quantify anticipated present and future benefits and costs as accurately as possible.” The Office of Information and Regulatory Affairs of OMB has emphasized that these techniques may include “identifying changing future compliance costs that might result from technological innovation or anticipated behavioral changes.”

We are issuing these final priorities, requirements, and definitions only on a reasoned determination that their benefits justify their costs. In choosing among alternative regulatory approaches, we selected those approaches that maximize net benefits. Based on the analysis that follows, the Department believes that this regulatory action is consistent with the principles in Executive Order 13563.

We also have determined that this regulatory action does not unduly interfere with State, local, and Tribal governments in the exercise of their governmental functions.

In accordance with both Executive orders, the Department has assessed the potential costs and benefits, both quantitative and qualitative, of this regulatory action. The potential costs are those resulting from statutory requirements and those we have determined as necessary for administering the Department's programs and activities.

Paperwork Reduction Act of 1995: The Paperwork Reduction Act of 1995 does not require you to respond to a collection of information unless it displays a valid OMB control number. The collection of information is approved under OMB control number 1855-0026.

Intergovernmental Review: This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program. Accessible Format: Individuals with disabilities can obtain this document in an accessible format (e.g., braille, large print, audiotape, or compact disc) on request to either of the program contact persons listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: July 9, 2014.
Nadya Chinoy Dabby,
Assistant Deputy Secretary for Innovation and Improvement.

[FR Doc. 2014-16462 Filed 7-11-14; 8:45 am]

BILLING CODE 4000-01-P